DEPARTMENT OF COMMERCE

Bureau of Industry and Security

Action Affecting Export Privileges; Aviation Services International B.V.; Delta Logistics B.V.; Robert Kraaipoel; Niels Kraaipoel; T.P.C. B.V.; Mia Van Gemert; Mojir Trading; Reza Amidi; Lavantia, Ltd.; Mita Zarek

In the Matter of:

Aviation Services International B.V., P.O. Box 418, Heerhugowaard, Netherlands 1 700AK;

Aviation Services International B.V., Fleming Straat 36, Heerhugowaard, Netherlands 1704SL;

Delta Logistics B.V., P.O. Box 418, Heerhugowaard, Netherlands 1700AK;

Delta Logistics B.V., Fleming Straat 36, Heerhugowaard, Netherlands 1704SL;

Robert Kraaipoel, P.O. Box 418, Heerhugowaard, Netherlands 1700AK;

Robert Kraaipoel, Fleming Straat 36, Heerhugowaard, Netherlands 1704SL;

Niels Kraaipoel, P.O. Box 418, Heerhugowaard, Netherlands 1700AK;

Niels Kraaipoel, Fleming Straat 36, Heerhugowaard, Netherlands 1704SL;

T.P.C. B.V., P.O. Box 418, Heerhugowaard, Netherlands 1700AK;

T.P.C. B.V., Fleming Straat 36, Heerhugowaard, Netherlands 1704SL;

T.P.C. B.V., P.O. Box 11, Heerhugowaard, Netherlands 1700AA;

Mia Van Gemert, P.O. Box 418, Heerhugowaard, Netherlands 1700AK;

Mia Van Gemert, Fleming Straat 36, Heerhugowaard, Netherlands 1704SL;

Mojir Trading, PO Box 18118, Jabel-Ali Free Zone, Dubai-UAE;

Reza Amidi, P.O. Box 18118, Jabel-Ali Free Zone, Dubai-UAE;

Lavantia, Ltd., 16 Kyraikou Matsi Ave, 3rd Floor, 1082 Nicosia, Cyprus;

Lavantia, Ltd., Strovolou 77, Strovolos Center Suite 202, Strovolos P.C. 2018, Nicosia, Cyprus;

Mita Zarek, 16 Kyraikou Matsi Ave, 3rd Floor, 1082 Nicosia, Cyprus;

Mita Zarek, Strovolou 77, Strovolos Center Suite 202, Strovolos P.C. 2018,

Nicosia, Cyprus, Respondents.

Order Renewing Temporary Denial Order

Pursuant to Section 766.24(d) of the Export Administration Regulations (“EAR”) ¹, the Bureau of Industry and Security (“BIS”), U.S. Department of Commerce, through its Office of Export Enforcement (“OEE”), has requested that I renew for 180 days an Order temporarily denying the export privileges under the EAR (“TDO”) of:

¹ The EAR are currently codified at 15 CFR Parts 730-774 (2008). The EAR are issued under the Export Administration Act of 1979, as amended (50 U.S.C. app. §§ 2401-2420 (2000)) (“EAA”). Since August 21, 2001, the EAA has been in lapse and the President, through Executive Order 13222 of August 17, 2001 (3 CFR, 2001 Comp. 783 (2002)), as extended by the Notice of July 23, 2008 (73 FR 43603 (July 25, 2008)), has continued the Regulations in effect under the International Emergency Economic Powers Act (50 U.S.C. 1701—1706 (2000)) (“IEEPA”).

(1) Aviation Services International B.V., P.O. Box 418, Heerhugowaard, Netherlands 1700AK, and Fleming Straat 36, Heerhugowaard, Netherlands 1704 SL.

(2) Delta Logistics, B.V., P.O. Box 418, Heerhugowaard, Netherlands 1700AK, and Fleming Straat 36, Heerhugowaard, Netherlands 1704 SL.

(3) Robert Kraaipoel, P.O. Box 418, Heerhugowaard, Netherlands 1700AK, and Fleming Straat 36, Heerhugowaard, Netherlands 1704SL.

(4) Niels Kraaipoel, P.O. Box 418, Heerhugowaard, Netherlands 1700AK, and Fleming Straat 36, Heerhugowaard, Netherlands 1704SL.

(5) T.P.C., B.V., P.O. Box 418, Heerhugowaard, Netherlands 1700AK, and Fleming Straat 36, Heerhugowaard, Netherlands 1704SL, and P.O. Box 11, Heerhugowaard, Netherlands 1700AA.

(6) Mia Van Gemert, P.O. Box 418, Heerhugowaard, Netherlands 1700AK, and Fleming Straat 36, Heerhugowaard, Netherlands 1704SL.

(7) Mojir Trading, P.O. Box 18118, Jabel-Ali Free Zone, Dubai-UAE.

(8) Reza Amidi, P.O. Box 18118, Jabel-Ali Free Zone, Dubai-UAE.

(9) Lavantia, Ltd., 16 Kyraikou Matsi Ave., 3rd Floor, 1082 Nicosia, Cyprus, and Strovolou 77, Strovolos Center Suite 202, Strovolos P.C. 2018, Nicosia, Cyprus.

(10) Mita Zarek, 16 Kyraikou Matsi Ave., 3rd Floor, 1082 Nicosia, Cyprus, and Strovolou 77, Strovolos Center Suite 202, Strovolos P.C. 2018, Nicosia, Cyprus (hereinafter collectively referred to as the “Respondents”) for 180 days.

On October 1, 2007, I issued a TDO, rendered effective as of October 10, 2007, the date of publication in the Federal Register, against the above-named respondents based on a finding that the evidence presented by BIS demonstrated that the Respondents knowingly violated the EAR on multiple occasions between 2005 and 2007. Respondents' misconduct included making false statements regarding the end-user and country of ultimate destination involving the unlicensed export of items subject to the EAR from the United States. The evidence showed that Respondents concealed the true ultimate destination for the items which was Iran and that Respondents did not have the required U.S. Government authorization for the transactions. Additionally, in August 2007, Respondents Aviation Services International B.V. (“ASI”), Robert Kraaipoel, Delta Logistics B.V. (“Delta”) and T.P.C. B.V. (“TPC”) were criminally charged with five counts for similar misconduct involving the unlicensed export of U.S.-origin items to Iran, including criminal violations of IEEPA and false statements as well. The criminal charges against ASI, Robert Kraaipoel, Delta and TPC are still pending and there also is an outstandstanding arrest warrant for Robert Kraaipoel. I further found that such violations had been significant, deliberate and covert, and were likely to occur again, especially given the nature of the transactions. For these reasons, I found that an imminent violation existed within the meaning of Section 766.24(b)(2).

On April 4, 2007, I renewed the TDO for 180 days based on the original evidence and information that Respondents Lavantia Ltd. and Mita Zarek violated the TDO on more than one occasion and continued to engage in unauthorized transactions involving items subject to the EAR. Moreover, evidence was presented that Lavantia Ltd. and Mita Zarek were attempting to evade the TDO by using an alternate address to receive U.S.-origin goods.

I find the facts and circumstances which led to the initial TDO and the April 2008 renewal order continue to show that renewal of the TDO for an additional 180 days is necessary and in the public interest, to prevent an imminent violation of the EAR. Furthermore, renewal of the Order is needed to give notice to persons and companies in the United States and abroad that they should cease dealing with the Respondents in export transactions involving items subject to the EAR. All parties to this TDO have been given notice of the request for renewal.

It is therefore ordered:

First, that the Respondents, Aviation Services International B.V., P.O. Box 418, Heerhugowaard, Netherlands 1700AK and Fleming Straat 36, Heerhugowaard, Netherlands 1704SL; Delta Logistics, B.V., P.O. Box 418, Heerhugowaard, Netherlands 1700AK and Fleming Straat 36, Heerhugowaard, Netherlands 1704SL; Robert Kraaipoel, Director and Principal Officer of Aviation Services International B.V., P.O. Box 418, Heerhugowaard, Netherlands 1700AK and Fleming Straat 36, Heerhugowaard, Netherlands 1704SL; Niels Kraaipoel, Aviation Services International Sales Manager, P.O. Box 418, Heerhugowaard, Netherlands 1700AK, and Fleming Straat 36, Heerhugowaard, Netherlands 1704SL; T.P.C, B.V., P.O. Box 418, Heerhugowaard, Netherlands 1700AK, and Fleming Straat 36, Heerhugowaard, Netherlands 1704SL and P.O. Box 11, Heerhugowaard, Netherlands 1700AA; Mia Van Gemert, Managing Director of Aviation Services International, P.O. Box 418, Heerhugowaard, Netherlands 1700AK, and Fleming Straat 36, Heerhugowaard, Netherlands 1704SL; Mojir Trading, P.O. Box 18118, Jabel-Ali Free Zone, Dubai-UAE; Reza Amidi, P.O. Box 18118, Jabel-Ali Free Zone, Dubai-UAE; Lavantia, Ltd., 16 Kyraikou Matsi Ave, 3rd Floor, 1082 Nicosia, Cyprus, and Strovolou 77, Strovolos Center Suite 202, Strovolos P.C. 2018, Nicosia, Cyprus; and Mita Zarek, owner of Lavantia, Ltd., 16 Kyraikou Matsi Ave., 3rd Floor, 1082 Nicosia, Cyprus, and Strovolou 77, Strovolos Center Suite 202, Strovolos P.C. 2018, Nicosia, Cyprus (collectively the “Denied Persons”) may not, directly or indirectly, participate in any way in any transaction involving any commodity, software or technology (hereinafter collectively referred to as “item”) exported or to be exported from the United States that is subject to the Export Administration Regulations (“EAR”), or in any other activity subject to the EAR, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefiting in any way from any transaction involving any item exported or to be exported from the United States that is subject to the EAR, or in any other activity subject to the EAR.

Second, that no person may, directly or indirectly, do any of the following:

A. Export or reexport to or on behalf of the Denied Persons any item subject to the EAR;

B. Take any action that facilitates the acquisition or attempted acquisition by the Denied Persons of the ownership, possession, or control of any item subject to the EAR that has been or will be exported from the United States, including financing or other support activities related to a transaction whereby the Denied Persons acquires or attempts to acquire such ownership, possession or control;

C. Take any action to acquire from or to facilitate the acquisition or attempted acquisition from the Denied Persons of any item subject to the EAR that has been exported from the United States;

D. Obtain from the Denied Persons in the United States any item subject to the EAR with knowledge or reason to know that the item will be, or is intended to be, exported from the United States; or

E. Engage in any transaction to service any item subject to the EAR that has been or will be exported from the United States and which is owned, possessed or controlled by the Denied Persons, or service any item, of whatever origin, that is owned, possessed or controlled by the Denied Persons if such service involves the use of any item subject to the EAR that has been or will be exported from the United States. For purposes of this paragraph, servicing means installation, maintenance, repair, modification or testing.

Third, that, after notice and opportunity for coniment as provided in section 766.23 of the EAR, any other person, firm, corporation, or business organization related to any of the Denied Persons by affiliation, ownership, control, or position of responsibility in the conduct of trade or related services may also be made subject to the provisions of this Order.

Fourth, that this Order does not prohibit any export, reexport, or other transaction subject to the EAR where the only items involved that are subject to the EAR are the foreign produced direct product of U.S.-origin technology.

In accordance with the provisions of Section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request with the Assistant Secretary not later than 20 days before the expiration date and serving the request on the Respondents. The Respondents may oppose a request to renew this Order by filing a written submission with the Assistant Secretary of Commerce for Export Enforcement, which must be received not later than seven days before the expiration date of the Order.

A copy of this Order shall be served on the Respondents and shall be published in the Federal Register.

This Order is effective as of the date that it is signed and shall remain in effect for 180 days.

Entered this 1st day of October 2008.
Darryl W. Jackson,
Assistant Secretary of Commerce for Export Enforcement.

[FR Doc. E8-23806 Filed 10-9-08; 8:45 am]

BILLING CODE 3510-DT-M